DEPARTMENT OF ENERGY

DOE/NSF High Energy Physics Advisory Panel

AGENCY: Office of Science, Department of Energy.

ACTION: Notice of open meeting.

SUMMARY: This notice announces a meeting of the DOE/NSF High Energy Physics Advisory Panel (HEPAP). Federal Advisory Committee Act (Pub. L. 92-463, 86 Stat. 770) requires that public notice of these meetings be announced in the Federal Register.

DATES: Thursday, September 5, 2013, 10:00 a.m.-6:00 p.m. Friday, September 6, 2013, 9:00 a.m.-4:00 p.m.

ADDRESSES: The National Science Foundation, 4201 Wilson Blvd., Arlington, VA 22230.

FOR FURTHER INFORMATION CONTACT: John Kogut, Executive Secretary; High Energy Physics Advisory Panel; U.S. Department of Energy; SC-25/Germantown Building, 1000 Independence Avenue SW., Washington, DC 20585-1290; Telephone: (301) 903-1298.

SUPPLEMENTARY INFORMATION: Purpose of Meeting: To provide advice and guidance on a continuing basis to the Department of Energy and the National Science Foundation on scientific priorities within the field of high energy physics research.

Tentative Agenda: Agenda will include discussions of the following:

September 5-6, 2013

• Discussion of Department of Energy High Energy Physics Program

• Discussion of National Science Foundation Elementary Particle Physics Program

• Reports on and Discussions of Topics of General Interest in High Energy Physics

• Public Comment (10-minute rule)

Public Participation: The meeting is open to the public. If you would like to file a written statement with the Committee, you may do so either before or after the meeting. If you would like to make oral statements regarding any of these items on the agenda, you should contact John Kogut, (301) 903-1298 or by email at: John.Kogut@science.doe.gov. You must make your request for an oral statement at least 5 business days before the meeting. Reasonable provision will be made to include the scheduled oral statements on the agenda. The Chairperson of the Panel will conduct the meeting to facilitate the orderly conduct of business. Public comment will follow the 10-minute rule.

Note: Those wishing to attend the HEPAP meeting may do so by emailing their full name and affiliation to Latia Mills at: lmills@nsf.gov, no later than September 3, 2013, so a visitor pass can be prepared. Passes may be collected on the day of the meeting by showing a photo ID at the Visitors Desk in the northwest lobby of the NSF building (4201 Wilson Blvd., Arlington, VA; 1 block south of the Ballston Metro station, at the SE corner of 9th and Stuart Street. The meeting will be in Stafford II, Room 555. More information about visiting the NSF can be found at http://www.nsf.gov/about/visit/.

Minutes: The minutes of the meeting will be available on the U.S. Department of Energy's Office of High Energy Physics Advisory Panel Web site at: www.science.energy.gov/hep/hepap/meetings.

Issued in Washington, DC, on July 23, 2013.
LaTanya R. Butler,
Deputy Committee Management Officer.

[FR Doc. 2013-18123 Filed 7-30-13; 8:45 am]

BILLING CODE 6450-01-P